DEPARTMENT OF COMMERCE

International Trade Administration

[A-533-838]

Carbazole Violet Pigment 23 From India: Final Results of Antidumping Duty Administrative Review; 2022-2023

AGENCY: Enforcement and Compliance, International Trade Administration, Department of Commerce.

SUMMARY: The U.S. Department of Commerce (Commerce) determines that producers/exporters subject to this review did not make sales of subject merchandise at prices below normal value. The period of review (POR) is December 1, 2022, through November 30, 2023.

DATES: Applicable January 17, 2025.

FOR FURTHER INFORMATION CONTACT: Dennis McClure or Henry Wolfe, AD/CVD Operations, Office VIII, Enforcement and Compliance, International Trade Administration, U.S. Department of Commerce, 1401 Constitution Avenue NW, Washington, DC 20230; telephone: (202) 482-5973, and (202) 482-0574, respectively.

SUPPLEMENTARY INFORMATION:

Background

On September 13, 2024, Commerce published the Preliminary Results of the 2022-2023 administrative review of the antidumping duty order ¹ on carbazole violet pigment 23 (CVP-23) from India in the Federal Register and invited parties to comment.² We received no comments from interested parties on the Preliminary Results, and we have made no changes to the Preliminary Results. Accordingly, no decision memoranda accompany this Federal Register notice, and the Preliminary Results are hereby adopted as these final results. Commerce conducted this administrative review in accordance with section 751(a) of the Tariff Act of 1930, as amended (the Act). On December 9, 2024, Commerce tolled the deadline to issue the final results in this administrative review by 90 days.³ Accordingly, the deadline for these final results is now April 11, 2025.

¹ See Notice of Amended Final Determination of Sales at Less Than Fair Value and Antidumping Duty Order: Carbazole Violet Pigment 23 from India, 69 FR 77988 (December 29, 2004) (Order).

² See Carbazole Violet Pigment 23 from India: Preliminary Results of Antidumping Duty Administrative Review; 2022-2023, 89 FR 74873 (September 13, 2024) (Preliminary Results), and accompanying Preliminary Decision Memorandum (PDM).

³ See Memorandum, “Tolling of Deadlines for Antidumping and Countervailing Duty Proceedings,” dated December 9, 2024.

Scope of the Order

The product covered by the Order is CVP-23, in any form. For a full description of the scope of the Order, see the Preliminary Results PDM.

Rate for Non-Selected Companies

The Act and Commerce's regulations do not directly address the establishment of a rate to be applied to individual companies not selected for examination when Commerce limits its examination in an administrative review pursuant to section 777A(c)(2) of the Act. Generally, Commerce looks to section 735(c)(5) of the Act, which provides instructions for calculating the all-others rate in a market economy investigation, for guidance when calculating the rate for companies which were not selected for individual review in an administrative review. Under section 735(c)(5)(A) of the Act, the all-others rate is normally “an amount equal to the weighted average of the estimated weighted-average dumping margins established for exporters and producers individually investigated, excluding any zero or de minimis margins, and any margins determined entirely {on the basis of facts available}.”

In this administrative review, we calculated weighted-average dumping margins for Meghmani Pigments/Meghmani LLP (Meghmani) ⁴ and Navpad Pigments Pvt. Ltd. (Navpad) that are zero and we did not calculate any margins which are not zero, de minimis, or determined entirely on the basis of facts available. Thus, in accordance with the expected method, and consistent with the U.S. Court of Appeals for the Federal Circuit's decision in Albemarle,⁵ we are applying to Gharda Chemicals Ltd., which was not selected for individual review in this review, a margin of zero percent.

⁴ Commerce previously collapsed Meghmani Pigments and Meghmani LLP (collectively, Meghmani) and treated the firms as a single entity. See Preliminary Results PDM at 3-6.

⁵ See Albemarle Corp. v. United States, 821 F.3d 1345, 1352 (Fed. Cir. 2016) (Albemarle) (holding that Commerce may only use “other reasonable methods” if it reasonably concludes that the expected method is “not feasible” or “would not be reasonably reflective of potential dumping margins”).

Final Results of Review

We determine that the following estimated weighted-average dumping margins exist for the period December 1, 2022, through November 30, 2023.

Producer and/or exporter | Weighted-average dumping margin (percent)
Gharda Chemicals Ltd. | 0.00
Meghmani Pigments/Meghmani LLP | 0.00
Navpad Pigments Pvt. Ltd. | 0.00

Disclosure

Normally, Commerce discloses to interested parties the calculations of the final results of an administrative review within five days of any public announcement or, if there is no public announcement, within five days of the date of publication of the notice of the final results in the Federal Register, in accordance with 19 CFR 351.224(b). However, because we made no changes from the Preliminary Results, there are no new calculations to disclose.

Assessment Rates

Consistent with section 751(a)(2)(C) of the Act and 19 CFR 351.212(b), upon completion of the administrative review, Commerce shall determine, and U.S. Customs and Border Protection (CBP) shall assess, antidumping duties on all appropriate entries of subject merchandise covered by this review. Because the respondents' weighted-average dumping margins or importer-specific assessment rates are zero in the final results of review, we intend to instruct CBP to liquidate entries without regard to antidumping duties.⁶ The final results of this administrative review shall be the basis for the assessment of antidumping duties on entries of merchandise covered by the final results of this review and for future deposits of estimated duties, where applicable.⁷

⁶ See Antidumping Proceedings: Calculation of the Weighted-Average Dumping Margin and Assessment Rate in Certain Antidumping Proceedings; Final Modification, 77 FR 8101, 8102 (February 14, 2012).

⁷ See section 751(a)(2)(C) of the Act

In accordance with Commerce's “automatic assessment” practice, for entries of subject merchandise during the POR for which Meghmani and Navapad did not know that their merchandise was destined for the United States, we will instruct CBP to liquidate such entries at the all-others rate established in the original less-than-fair value (LTFV) investigation (i.e., 27.48 percent) ⁸ if there is no rate for the intermediate company(ies) involved in the transaction.

⁸ See Order, 69 FR 77989.

Commerce intends to issue assessment instructions to CBP no earlier than 35 days after the date of publication of these final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective upon publication in the Federal Register of these final results of administrative review for all shipments of the subject merchandise entered, or withdrawn from warehouse, for consumption on or after the publication date, as provided by section 751(a)(2)(C) of the Act: (1) the cash deposit rate for the companies listed above will be equal to the weighted-average dumping margin established in these final results of this administrative review (i.e., 0.00 percent); (2) for merchandise exported by producers or exporters not covered in this review but covered in a prior completed segment of the proceeding, the cash deposit rate will continue to be the company-specific rate published in the completed segment for the most recent period; (3) if the exporter is not a firm covered in this review or another completed segment of this proceeding, but the producer is, the cash deposit rate will be the company-specific rate established for the most recent completed segment for the producer of the merchandise; and (4) the cash deposit rate for all other producers or exporters will continue to be 27.48 percent, the all-others rate established in the less-than-fair-value investigation.⁹ These cash deposit requirements, when imposed, shall remain in effect until further notice.

⁹ Id.

Notification To Importers

This notice serves as a final reminder to importers of their responsibility under 19 CFR 351.402(f)(2) to file a certificate regarding the reimbursement of antidumping and/or countervailing duties prior to liquidation of the relevant entries during the POR. Failure to comply with this requirement could result in Commerce's presumption that reimbursement of antidumping and/or countervailing duties occurred and the subsequent assessment of double antidumping duties, and/or an increase in the amount of antidumping duties by the amount of the countervailing duties.

Administrative Protective Order

This notice also serves as a final reminder to parties subject to an administrative protective order (APO) of their responsibility concerning the return or destruction of proprietary information disclosed under APO in accordance with 19 CFR 351.305(a)(3). Timely written notification of the return or destruction of APO materials or conversion to judicial protective order is hereby requested. Failure to comply with the regulations and terms of an APO is a violation subject to sanction.

Notification to Interested Parties

Commerce is issuing and publishing the final results of this review in accordance with sections 751(a)(1) and 777(i)(1) of the Act, and 19 CFR 351.221(b)(5).

Dated: January 10, 2025.
Steven Presing,
Acting Deputy Assistant Secretary for Policy and Negotiations.

[FR Doc. 2025-01124 Filed 1-16-25; 8:45 am]

BILLING CODE 3510-DS-P